DEPARTMENT OF HOMELAND SECURITY

Coast Guard

33 CFR Part 165

[Docket No. USCG-2013-0362]

RIN 1625-AA00

Safety Zones; Eleventh Coast Guard District Annual Fireworks Events

AGENCY: Coast Guard, DHS.

ACTION: Final rule.

SUMMARY: The Coast Guard is amending several permanent safety zones located in the Eleventh Coast Guard District that are established to protect public safety during annual firework displays. These amendments will standardize the safety zone language, update listed events, delete events that are no longer occurring, add new annual fireworks events, and establish a standardized format using a table to list these recurring annual fireworks events. When these safety zones are activated, and thus subject to enforcement, this rule will limit the movement of vessels within the established firework display area.

DATES: This rule is effective March 20, 2014.

ADDRESSES: Documents mentioned in this preamble are part of docket USCG-2013-0362. To view documents mentioned in this preamble as being available in the docket, go to http://www.regulations.gov, type the docket number in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions about this rule, call or email Lieutenant Junior Grade Blake Morris, Eleventh Coast Guard District Prevention Division, Waterways Management Branch, U.S. Coast Guard; telephone 510-437-3801, email Blake.J.Morris@uscg.mil. If you have questions on viewing or submitting material to the docket, call Cheryl Collins, Program Manager, Docket Operations, telephone 202-366-9826.

SUPPLEMENTARY INFORMATION:

Table of Acronyms

DHS Department of Homeland Security

FR Federal Register

NPRM Notice of Proposed Rulemaking

A. Regulatory History and Information

On December 10th, 2013, we published a NPRM entitled Eleventh Coast Guard District Annual Fireworks Events, in the Federal Register (78 FR 74048). One comment was received in response to the NPRM and there were no requests for a public meeting. A public meeting was not held.

The comment that was received stressed that public safety should be the first priority during any fireworks event, making it necessary for the Coast Guard to establish and enforce safety zones that are apparent and clear to the public. The author also believes better clarity can be achieved by using standardized language when publishing regulations.

B. Basis and Purpose

The Coast Guard is conducting this rulemaking under the authority of 33 U.S.C. 1231.

Fireworks displays are held annually on a recurring basis on the navigable waters within the Eleventh Coast Guard District. Many of the annual fireworks events that require safety zones do not currently reflect some of the required information pertinent to the events such as the dates of the events and other required information that is described below. These safety zones are necessary to provide for the safety of the crew, spectators, participants in the event, participating vessels, and other users and vessels of the waterway from the hazards associated with firework displays. This rule will also provide the public with current information on safety zone locations, size, and length of time the zones will be active.

The effect of these safety zones will be to restrict general navigation in the vicinity of the events, from the start of each event until the conclusion of that event. Except for persons or vessels authorized by the Coast Guard Patrol Commander, no person or vessel may enter or remain in the regulated area. These regulations are needed to keep all spectators and vessels a safe distance away from the fireworks displays.

C. Discussion of Comments, Changes and the Final Rule

We received one comment and no requests for a public meeting after publishing the NPRM for this rule. The comment that was received stressed that public safety should be the first priority during any fireworks event, making it necessary for the Coast Guard to establish and enforce safety zones that are apparent and clear to the public. The comment was not adverse in nature, therefore, no changes have been made to the regulatory text of this rule.

The Coast Guard has reviewed 33 CFR part 165 sections 1123, 1124, and 1191 for accuracy. The Coast Guard is amending Table 1 in sections 1123, 1124, and 1191 of Title 33 CFR as follows: existing events are being updated with current information; unlisted events are being added; and listed events that the Coast Guard has been unable to verify as still in existence are being deleted.

The Coast Guard is amending the annual fireworks events for the San Diego Captain of the Port zone listed in 33 CFR part 165 section 1123 as follows: 4 events require updating to reflect current sponsor information and event location. These events are the “San Diego CA POPS Fireworks Display”, “Fourth of July Fireworks, Mission Bay”, “Coronado Glorietta Bay Fourth of July Fireworks”, and “San Diego Parade of Lights Fireworks Display.” Through this rulemaking, three new safety zones are being added for the following events. The first new safety zone is for the “Big Bay Boom Fourth of July Fireworks” event occurring one evening during the first week of July in San Diego Bay. This event requires four 1,000 foot radius safety zones around barges located at Shelter Island, Harbor Island, Embarcadero, and Seaport Village. The second new safety zone is for the “MIDWAY Fireworks” event occurring on various evenings throughout the year on the USS MIDWAY in San Diego Bay. The safety zone will be 800 feet in radius around a barge located immediately to the west of the USS MIDWAY at approximately 32 42′46″ N, 117 10′47″ W. The third new safety zone is for the “Sea World Fireworks” event in Mission Bay occurring nightly between Memorial Day and Labor Day, and on approximately 10 evenings between Labor Day and Memorial Day. The safety zone at Sea World, Mission Bay, will be 800 feet in radius around a barge located at approximately 32 46′03″ N, 117 13′11″ W. Sea World Fireworks events will also be scheduled between Thanksgiving and New Year's Day as conditions allow.

The Coast Guard is amending the annual fireworks events listed in 33 CFR 165 section 1124 within the San Diego Captain of the Port zone for the Colorado River, between Davis Dam (Bullhead City, AZ) and Headgate Dam (Parker, AZ) as follows: 4 events require updating with current sponsor information and event locations. These events are the “Avi Resort & Casino Memorial Day Fireworks”, “Laughlin/Bullhead City Rockets Over the River Fireworks”, “Avi Resort & Casino Independence Day Fireworks”, and the “Avi Resort & Casino Labor Day Fireworks.” Through this rulemaking, two new safety zones are being added for the following events. The first new safety zone is for the “Colorado Belle & Edgewater Hotel/Casino Thanksgiving Fireworks” event occurring in the lower Colorado River at Laughlin, NV. The safety zone will encompass the following coordinates: 35 09′51″ N, 114 34′08″ W; 35 09′53″ N, 114 34′15″ W along the shoreline to 35 09′31″ N, 114 34′17″ W; 35 09′33″ N, 114 34′08″ W along the shoreline to 35 09′51″ N, 114 34′08″ W. The second new safety zone is for the “Colorado Belle & Edgewater Hotel/Casino New Years Eve Fireworks” event occurring on the lower Colorado River at Laughlin, NV. The safety zone will encompass the following coordinates: 35 09′51″ N, 114 34′08″ W; 35 09′53″ N, 114 34′15″ W along the shoreline to 35 09′31″ N, 114 34′18″ W; 35 09′33″ N, 114 34′08″ W along the shoreline to 35 09′51″ N, 114 34′08″ W.

The Coast Guard is amending the annual fireworks events listed in 33 CFR 165 section 1191 within the San Francisco Captain of the Port zone for the Northern California and Lake Tahoe Area as follows: 14 events require updating to reflect current sponsor information and event location. The Coast Guard is updating the following 14 numerically listed events in Table 1 of this section: (1), (4), (5), (6), (7), (9), (11), (13), (14), (15), (16), (20), (24), (25). Through this rulemaking, two new safety zones are being added for the following events. The first new safety zone is for the “Jameson Beach Fourth of July Fireworks” event, occurring at South Lake Tahoe near Jameson Beach. This safety zone will be 560 feet in radius around the fireworks barge. The second new safety zone is for the “Feast of Lanterns Fireworks” event, occurring on the last Saturday in July near Lovers Point Park in Pacific Grove. This safety zone will be 490 feet in radius around the launch platform located on the beach at approximately 36°37′26″ N, 121°54′54″ W. Finally, the Coast Guard is deleting three safety zones for events that no longer take place within the San Francisco Captain of the Port zone. Those three events are: the “Fourth of July Fireworks, City of Monterey”, the “Jack London Square Fourth of July Fireworks”, and the “Independence Day Celebration, City of Stockton.”

D. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of Executive Order 12866 or under section 1 of Executive Order 13563. The Office of Management and Budget has not reviewed it under those Orders. We expect the economic impact of this rule to be so minimal that a full Regulatory Evaluation is unnecessary. This rule is not a significant regulatory action because the regulations exist for a limited period of time on a limited portion of the waterways. Further, individuals and vessels desiring to use the affected portion of the waterways may, upon permission from the Patrol Commander, use the affected areas.

2. Impact on Small Entities

The Regulatory Flexibility Act of 1980 (RFA), 5 U.S.C. 601-612, as amended, requires federal agencies to consider the potential impact of regulations on small entities during rulemaking. The term “small entities” comprises small businesses, not-for-profit organizations that are independently owned and operated and are not dominant in their fields, and governmental jurisdictions with populations of less than 50,000. The Coast Guard received no comments from the Small Business Administration on this rule. The Coast Guard certifies under 5 U.S.C. 605(b) that this rule would not have a significant economic impact on a substantial number of small entities.

We expect this rule will affect the following entities, some of which may be small entities: The owners and operators of vessels intending to fish, transit, or anchor in the waters affected by these safety zones. This rule will not have a significant economic impact on a substantial number of small entities for the following reasons: Small vessel traffic will be able to pass safely around the area and vessels engaged in event activities, sightseeing and commercial fishing have ample space outside of the area governed by the safety zones to engage in these activities. Small entities and the maritime public will be advised of the activation of these safety zones via public notice to mariners or notice of implementation published in the Federal Register.

3. Assistance for Small Entities

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule will not call for a new collection of information under the Paperwork Reduction Act of 1995 (44 U.S.C. 3501-3520).

5. Federalism

A rule has implications for federalism under Executive Order 13132, Federalism, if it has a substantial direct effect on the States, on the relationship between the national government and the States, or on the distribution of power and responsibilities among the various levels of government. We have analyzed this rule under that Order and have determined that this rule does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule would not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and would not create an environmental risk to health or risk to safety that might disproportionately affect children.

11. Indian Tribal Governments

This rule does not have tribal implications under Executive Order 13175, Consultation and Coordination with Indian Tribal Governments, because it would not have a substantial direct effect on one or more Indian tribes, on the relationship between the Federal Government and Indian tribes, or on the distribution of power and responsibilities between the Federal Government and Indian tribes.

12. Energy Effects

This rule is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA)(42 U.S.C. 4321-4370f), and have concluded that this action is one of a category of actions that do not individually or cumulatively have a significant effect on the human environment. This rule involves establishing, updating, or removing temporary safety zones for fireworks displays. The fireworks are launched from navigable waters of the United States and may have potential for negative impact on the safety or other interest of waterway users and near shore activities in the event area. The activites include fireworks launched from barges near the shoreline that generally rely on the use of navigable waters as a safety buffer to protect the public from fireworks fallouts and premature detonations. This rule is categorically excluded from further review under paragraph 34(g) of Figure 2-1 of the Commandant Instruction. A preliminary environmental analysis checklist supporting this determination is available in the docket where indicated under ADDRESSES. We seek any comments or information that may lead to the discovery of a significant environmental impact from this rule.

List of Subjects in 33 CFR Part 165

Harbors, Marine safety, Navigation (water), Reporting and recordkeeping requirements, Security measures, Waterways.

For the reasons discussed in the preamble, the Coast Guard amends 33 CFR part 165 as follows:

PART 165—REGULATED NAVIGATION AREAS AND LIMITED ACCESS AREAS

1. The authority citation for part 165 continues to read as follows:

Authority: 33 U.S.C. 1231; 46 U.S.C. Chapter 701, 3306, 3703; 50 U.S.C. 191, 195; 33 CFR 1.05-1, 6.04-1, 6.04-6, and 160.5; Pub. L. 107-295, 116 Stat. 2064; Department of Homeland Security Delegation No. 0170.1.

2. Revise Table 1 to § 165.1123 to read as follows:

§ 165.1123 Southern California Annual Firework Events for the San Diego Captain of the Port Zone.

* * * * *

Table 1 to § 165.1123
[All coordinates referenced use datum NAD 83]
1. San Diego, CA POPS Fireworks Display
Sponsor | San Diego Symphony
Event Description | Fireworks Display.
Date | Friday/Saturday/Sunday last weekend of June through first weekend of September.
Location | San Diego Bay South Embarcadero, San Diego, CA
Regulated Area | 800-foot radius safety zone around tug/barge combination located at approximately: 32°42′16″ N, 117°09′59″ W.
2. Fourth of July Fireworks, Mission Bay
Sponsor | Mission Bay Yacht Club
Event Description | Fireworks Display.
Date | One evening; the first week in July.
Location | Mission Bay, San Diego, CA.
Regulated Area | 800-foot radius safety zone around tug/barge combination located at approximately 32°47′00″ N, 117°14′45″ W.
3. Coronado Glorietta Bay Fourth of July Fireworks
Sponsor | Coronado, CA.
Event Description | Fireworks Display.
Date | One evening; the first week in July.
Location | Glorietta Bay, CA.
Regulated Area | 800-foot radius safety zone around a tug/barge combination located at approximately: 32°40′43″ N, 117°10′14″ W.
4. San Diego Parade of Lights Fireworks Display
Sponsor | Greater Shelter Island Association.
Event Description | Boat Parade/Fireworks display.
Date | Two evenings in December.
Location | San Diego Harbor, San Diego, CA.
Regulated Area | 800-foot radius safety zone around a tug/barge combination in the northern portion of the San Diego Main Ship Channel off of Harbor Island located at approximately: 32°43′25″ N, 117°11′50″ W. (Note: see also 33 CFR 100.1101, Table 1, for related marine event).
5. Big Bay Boom Fourth of July Fireworks
Sponsor | Port of San Diego.
Event Description | Fireworks Display.
Date | One evening; first week in July
Location | San Diego Bay, San Diego, CA.
Regulated Area | 1000-foot radius safety zone around four tug/barge combinations located at approximately: Shelter Island Barge: 32°42′48″ N, 117°13′12″ W; Harbor Island Barge: 32°43′00″ N, 117°12′00″ W; Embarcadero Barge: 32°42′45″ N, 117°10′47″ W; Seaport Village Barge: 32°42′02″ N, 117°10′00″ W.
6. MIDWAY Fireworks
Sponsor | USS MIDWAY Association.
Event Description | Fireworks Display.
Date | Evening shows throughout the year.
Location | San Diego Bay off the USS MIDWAY, San Diego, CA.
Regulated Area | 800-foot radius safety zone around either the tug/barge combination immediately to the west of the USS MIDWAY located at approximately: 32°42′46″ N, 117°10′47″ W or off of the western end of the flight deck of the USS MIDWAY.
7. Sea World Fireworks
Sponsor | Sea World.
Event Description | Fireworks Display.
Date | Nightly; between Memorial Day and Labor Day. Approximately 10 evening shows between Labor Day and Memorial Day, primarily on weekend evenings. Between Thanksgiving and New Year's Day as conditions allow.
Location | Mission Bay/Fiesta Island, San Diego, CA.
Regulated Area | 800-foot radius safety zone around a tug/barge combination located at approximately: 32°46′03″ N, 117°13′11″ W.

3. Revise Table 1 to § 165.1124 to read as follows:

§ 165.1124 Annual Firework Events on the Colorado River, between Davis Dam (Bullhead City, Arizona) and Headgate Dam (Parker, Arizona).

* * * * *

Table 1 to § 165.1124
[All coordinates referenced use datum NAD 83]
1. Avi Resort & Casino Memorial Day Fireworks
Sponsor | Avi Resort & Casino.
Event Description | Fireworks Display.
Date | Sunday before Memorial Day.
Location | Laughlin, NV.
Regulated Area | River closure from 8 p.m.-10 p.m. The safety zone includes all navigable waters of the lower Colorado River at Laughlin, NV encompassed by the following coordinates: 35°01′05″ N, 114°38′20″ W; 35°01′05″ N, 114°38′15″ W; along the shoreline to 35°00′50″ N, 114°38′13″ W; 35°00′49″ N, 114°38′18″ W; along the shoreline to 35°01′05″N, 114°38′20″ W.
2. Laughlin/Bullhead City Rockets Over the River Fireworks
Sponsor | Laughlin Tourism Committee.
Event Description | Fireworks Display. Two events over the 4th of July Weekend. One will be on the 4th and the other will be on a weekend evening closest to the 4th of July.
Date | First week in July.
Location | Laughlin, NV./Bullhead City, AZ.
Regulated Area | The temporary safety zone is specifically defined as all navigable waters of the lower Colorado River at Laughlin, NV encompassed by the following coordinates: 35°09′53″ N, 114°34′15″ W; 35°09′53″ N, 114°34′07″ W; along the shoreline to 35°09′25″ N, 114°34′09″ W; 35°09′06″ N, 114°34′17″ W; along the shoreline to 35°09′53″ N, 114°34′15″ W.
3. Avi Resort & Casino Independence Day Fireworks
Sponsor | Avi Resort & Casino.
Event Description | Fireworks Display.
Date | First week in July.
Location | Laughlin, NV.
Regulated Area | River closure from 8 p.m.-10 p.m. The safety zone includes all navigable waters of the lower Colorado River at Laughlin, NV encompassed by the following coordinates: 35°01′05″ N, 114°38′20″ W; 35°01′05″ N, 114°38′14″ W; along the shoreline to 35°00′50″ N, 114°38′13″ W; 35°00′49″ N, 114°38′18″ W; along the shoreline to 35°01′05″ N, 114°38′20″ W.
4. Avi Resort & Casino Labor Day Fireworks
Sponsor | Avi Resort & Casino.
Event Description | Fireworks Display.
Date | Sunday before Labor Day.
Location | Laughlin, NV.
Regulated Area | River closure from 8 p.m.-10 p.m. The safety zone includes all navigable waters of the lower Colorado River at Laughlin, NV encompassed by the following coordinates: 35°01′05″ N, 114°38′20″ W; 35°01′05″ N, 114°38′15″ W; along the shoreline to 35°00′20″ N, 114°38′13″ W; 35°00′49″ N, 114°38′18″ W; along the shoreline to 35°01′05″N, 114°38′20″ W.
5. Colorado Belle & Edgewater Hotel/Casino Thanksgiving Fireworks
Sponsor | Edgewater Hotel & Casino
Event Description | Fireworks Display.
Date | One evening during Thanksgiving week.
Location | Laughlin, NV.
Regulated Area | The temporary safety zone is specifically defined as all navigable waters of the lower Colorado River at Laughlin, NV, from 10 p.m.-12:30 a.m., encompassed by the following coordinates: 35°09′51″ N, 114°34′08″ W; 35°09′53″ N, 114°34′15″ W, along the shoreline to 35°09′31″ N, 114°34′17″ W; 35°09′33″ N, 114°34′08″ W along the shoreline to 35°09′51″ N, 114°34′08″ W.
6. Colorado Belle & Edgewater Hotel/Casino New Years Eve Fireworks
Sponsor | Edgewater Hotel & casino.
Event Description | Fireworks Display.
Date | New Years Eve.
Location | Laughlin, NV.
Regulated Area | The temporary safety zone is specifically defined as all navigable waters of the lower Colorado River at Laughlin, NV, from 10 p.m.-12:30 a.m., encompassed by the following coordinates: 35°09′51″ N, 114°34′08″ W; 35°09′53″ N, 114°34′15″ W along the shoreline to 35°09′ 31″ N, 114°34′18″ W; 35°09′33″ N, 114°34′08″ W along the shoreline to 35°09′51″ N, 114°34′08″ W.

4. Revise Table 1 to § 165.1191 to read as follows:

§ 165.1191 Northern California and Lake Tahoe Area Annual Fireworks Events.

* * * * *

Table 1 to § 165.1191
[All coordinates referenced use datum NAD 83]
1. San Francisco Giants Fireworks
Sponsor | San Francisco Giants Baseball Team.
Event Description | Fireworks display in conjunction with baseball season home games.
Date | All season home games at AT&T Park.
Location | 700 feet off of Pier 48, San Francisco, CA.
Regulated Area | 100-foot radius around the fireworks launch barge during the loading of pyrotechnics aboard the fireworks barge and during the transit of the fireworks barge from the loading location to the display location. Increases to a 700-foot radius upon commencement of the fireworks display.
2. KFOG KaBoom
Sponsor | KFOG Radio, San Francisco, CA.
Event Description | Fireworks Display.
Date | Second or Third Saturday in May.
Location | 1,200 feet off Candlestick Point, San Francisco, CA.
Regulated Area | 100-foot radius around the fireworks launch barge during the loading of pyrotechnics aboard the fireworks barge and during the transit of the fireworks barge from the loading location to the display location. Increases to a 1,000-foot radius upon commencement of the fireworks display.
3. Fourth of July Fireworks, City of Eureka
Sponsor | City of Eureka, CA.
Event Description | Fireworks Display.
Date | July 4th.
Location | Humboldt Bay, CA.
Regulated Area | 100-foot radius around the fireworks launch barge during the loading of pyrotechnics aboard the fireworks barge and during the transit of the fireworks barge from the loading location to the display location. Increases to a 1,000-foot radius upon commencement of the fireworks display.
4. Fourth of July Fireworks, Crescent City
Sponsor | Crescent City, CA.
Event Description | Fireworks Display.
Date | July 4th.
Location | Crescent City Harbor, Crescent City, CA.
Regulated Area | Crescent City Harbor in the navigable waters within a 700-foot radius of the launch platform located on the West Jetty.
5. Pillar Point Harbor Fireworks
Sponsor | Various sponsors.
Event Description | Fireworks Display.
Date | July 4th.
Location | Half Moon Bay, CA.
Regulated Area | Pillar Point Harbor Beach.
6. Fourth of July Fireworks, Redwood City
Sponsor | Various Sponsors.
Event Description | Fireworks Display.
Date | July 4th.
Location | Redwood City, CA.
Regulated Area | 600-foot radius around the fireworks launch platform located on the pier at the Port of Redwood City.
7. San Francisco Independence Day Fireworks
Sponsor | The City of San Francisco.
Event Description | Fireworks Display.
Date | July 4th.
Location 1 | A barge located approximately 1000 feet off San Francisco Pier 39 at approximately 37°48′49″ N, 122°24′46″ W.
Location 2 | Land based launch at the end of the San Francisco Municipal Pier at Aquatic Park at approximately 37°48′38″ N, 122°25′28″ W.
Regulated Area 1 | 1. 100-foot radius around the fireworks barge during the loading, transit, setup, and until the commencement of the scheduled display. Increases to a 1,000-foot radius upon commencement of the fireworks display.
Regulated Area 2 | 2. The area of navigable waters within a 1,000-foot radius of the launch platform located on the Municipal Pier.
8. Fourth of July Fireworks, Berkeley Marina
Sponsor | Berkeley Marina.
Event Description | Fireworks Display.
Date | July 4th.
Location | Berkeley Pier, Berkeley, CA.
Regulated Area | The area of navigable waters within a 1,000-foot radius of the launch platform located on the Berkeley Pier.
9. Fourth of July Fireworks, City of Richmond
Sponsor | City of Richmond.
Event Description | Fireworks Display.
Date | Week of July 4th.
Location | Richmond Harbor, Richmond, CA.
Regulated Area | The area of navigable waters within a 560-foot radius of the launch platform located at Lucretia Edwards Park.
10. Fourth of July Fireworks, City of Sausalito
Sponsor | City of Sausalito.
Event Description | Fireworks Display.
Date | July 4th.
Location | 1,000 feet off-shore from Sausalito, CA waterfront, north of Spinnaker Restaurant.
Regulated Area | 100-foot radius around the fireworks launch barge during the loading of pyrotechnics aboard the fireworks barge and during the transit of the fireworks barge from the loading location to the display location. Increases to a 1,000-foot radius upon commencement of the fireworks display.
11. Fourth of July Fireworks, City of Martinez
Sponsor | City of Martinez.
Event Description | Fireworks Display.
Date | July 4th.
Location | Carquinez Strait, CA
Regulated Area | The area of navigable waters within a 560-foot radius of the launch platform located near Waterfront Park.
12. Fourth of July Fireworks, City of Antioch
Sponsor | City of Antioch.
Event Description | Fireworks Display.
Date | July 4th.
Location | San Joaquin River, CA.
Regulated Area | 100-foot radius around the fireworks launch barge during the loading of pyrotechnics aboard the fireworks barge and during the transit of the fireworks barge from the loading location to the display location. Increases to a 1,000-foot radius upon commencement of the moving fireworks display.
13. Fourth of July Fireworks, City of Pittsburg
Sponsor | City of Pittsburg.
Event Description | Fireworks Display.
Date | July 4th.
Location | Suisun Bay, CA.
Regulated Area | The area of navigable waters within a 560-foot radius of the launch platform located on a Pittsburg Marina Pier.
14. Delta Independence Day Celebration Fireworks
Sponsor | Various Sponsors.
Event Description | Fireworks Display.
Date | Week of July 4th.
Location | San Joaquin River, near Mandeville Island, CA.
Regulated Area | 100-foot radius around the fireworks launch barge during the loading of pyrotechnics aboard the fireworks barge and during the transit of the fireworks barge from the loading location to the display location. Increases to a 1,000-foot radius upon commencement of the fireworks display.
15. Fourth of July Fireworks, Tahoe City, CA
Sponsor | Various Sponsors.
Event Description | Fireworks Display.
Date | July 4th.
Location | Off-shore from Common Beach, Tahoe City, CA.
Regulated Area | 100-foot radius around the fireworks launch barge during the loading of pyrotechnics aboard the fireworks barge and during the transit of the fireworks barge from the loading location to the display location. Increases to a 1,000-foot radius upon commencement of the fireworks display.
16. Fourth of July Fireworks, Glenbrook NV
Sponsor | Various Sponsors.
Event Description | Fireworks Display.
Date | July 4th.
Location | Off-shore Glenbrook Beach, NV.
Regulated Area | 100-foot radius around the fireworks launch barge during the loading of pyrotechnics aboard the fireworks barge and during the transit of the fireworks barge from the loading location to the display location. Increases to a 1,000-foot radius upon commencement of the fireworks display.
17. Independence Day Fireworks, Kings Beach, CA
Sponsor | North Tahoe Business Association.
Event Description | Fireworks Display.
Date | Week of July 4th.
Location | Off-shore from Kings Beach, CA.
Regulated Area | 100-foot radius around the fireworks launch barge during the loading of pyrotechnics aboard the fireworks barge and during the transit of the fireworks barge from the loading location to the display location. Increases to a 1,000-foot radius upon commencement of the fireworks display.
18. Lights on the Lake Fourth of July Fireworks, South Lake Tahoe, CA
Sponsor | Various Sponsors.
Event Description | Fireworks Display.
Date | Week of July 4th.
Location | Off South Lake Tahoe, CA near the NV Border.
Regulated Area | 100-foot radius around the fireworks launch barge during the loading of pyrotechnics aboard the fireworks barge and during the transit of the fireworks barge from the loading location to the display location. Increases to a 1,000-foot radius upon commencement of the fireworks display.
19. Red, White, and Tahoe Blue Fireworks, Incline Village, NV
Sponsor | Various Sponsors.
Event Description | Fireworks Display.
Date | Week of July 4th.
Location | 500-1,000 feet off Incline Village, NV in Crystal Bay.
Regulated Area | 100-foot radius around the fireworks launch barge during the loading of pyrotechnics aboard the fireworks barge and during the transit of the fireworks barge from the loading location to the display location. Increases to a 1,000-foot radius upon commencement of the fireworks display.
20. Labor Day Fireworks, South Lake Tahoe, CA
Sponsor | Various Sponsors.
Event Description | Fireworks Display.
Date | Labor Day.
Location | Off South Lake Tahoe, California near the Nevada Border.
Regulated Area | 100-foot radius around the fireworks launch barge during the loading of pyrotechnics aboard the fireworks barge and during the transit of the fireworks barge from the loading location to the display location. Increases to a 1,000-foot radius upon commencement of the fireworks display.
21. Fleet Week Fireworks
Sponsor | Various Sponsors.
Event Description | Fireworks Display.
Date | Second Friday and Saturday in October.
Location | 1,000 feet off Pier 3, San Francisco, CA.
Regulated Area | 100-foot radius around the fireworks launch barge during the loading of pyrotechnics aboard the fireworks barge and during the transit of the fireworks barge from the loading location to the display location. Increases to a 1,000-foot radius upon commencement of the fireworks display.
22. Monte Foundation Fireworks
Sponsor | Monte Foundation Fireworks.
Event Description | Fireworks Display.
Date | Second Saturday in October.
Location | Sea Cliff State Beach Pier in Aptos, CA.
Regulated Area | 1,000-foot safety zone around the navigable waters of the Sea Cliff State Beach Pier.
23. Rio Vista Bass Derby Fireworks
Sponsor | Rio Vista Chamber of Commerce.
Event Description | Fireworks Display.
Date | Second Saturday in October.
Location | 500 feet off Rio Vista, CA waterfront.
Regulated Area | 100-foot radius around the fireworks launch barge during the loading of pyrotechnics aboard the fireworks barge and during the transit of the fireworks barge from the loading location to the display location. Increases to a 1,000-foot radius upon commencement of the fireworks display.
24. San Francisco New Years Eve Fireworks
Sponsor | City of San Francisco.
Event Description | Fireworks Display.
Date | New Years Eve, December 31st.
Location | 1,000 feet off the Embarcadero near the Ferry Plaza, San Francisco, CA.
Regulated Area | 100-foot radius around the fireworks launch barge during the loading of pyrotechnics aboard the fireworks barge and during the transit of the fireworks barge from the loading location to the display location. Increases to a 1,000-foot radius upon commencement of the fireworks display.
25. Sacramento New Years Eve Fireworks
Sponsor | Various Sponsors.
Event Description | Fireworks Display.
Date | New Years Eve, December 31st.
Location | Near Tower Bridge, Sacramento River.
Regulated Area | The navigable waters of the Sacramento River within 700 feet of the two shore-based launch locations in approximate positions 38°34′48″ N, 121°30′38″ W and 38°34′49″ N, 121°30′29″ W.
26. Jameson Beach Fourth of July Fireworks
Sponsor | Various Sponsors
Event Description | Fireworks Display.
Date | Week of July 4th.
Location | South Lake Tahoe near Jameson Beach.
Regulated Area | 100-foot radius around the fireworks barge during the loading, transit, setup, and until the commencement of the scheduled display. Increases to a 560-foot radius upon commencement of the fireworks display.
27. Feast of Lanterns Fireworks
Sponsor | Feast of Lanterns, Inc.
Event Description | Fireworks Display.
Date | Last Saturday of July.
Location | Near Lover's Point Park in Pacific Grove, CA.
Regulated Area | The area of navigable waters within a 490-foot radius of the launch platform located on the beach near Lover's Point Park in approximate position 36°37′26″ N, 121°54′54″ W.

Dated: January 21, 2014.
K.L. Schultz,
Rear Admiral, U.S. Coast Guard, Commander, Eleventh Coast Guard District.

[FR Doc. 2014-03468 Filed 2-14-14; 8:45 am]

BILLING CODE 9110-04-P